SECURITIES AND EXCHANGE COMMISSION

Proposed Collection; Comment Request

Upon Written Request, Copies Available From: Securities and Exchange Commission, Office of Investor Education and Advocacy, Washington, DC 20549-0213.

“Checking in with the SEC's Enforcement Division”; SEC File No. 270-598; OMB Control No. 3235-NEW.

Notice is hereby given that, pursuant to the Paperwork Reduction Act of 1995 (44 U.S.C. 3501 et seq.), the Securities and Exchange Commission (“Commission”) is soliciting comments on the collection of information summarized below. The Commission plans to submit a questionnaire to the Office of Management and Budget for approval.

The Commission intends to send the questionnaire to Securities Law Practitioners, Securities Law Professors and Securities Industry Participants. The questionnaire consists of three (3) questions. It asks participants to identify activities that they believe to be significant, to explain why and to rank the significance of the activities.

The Commission needs the information to develop a balanced, informed, and insightful perspective on the impact of the Division's activities. Ultimately, this will be used in developing a new metrics beyond Enforcement statistics, which will assist the Division in evaluating and prioritizing its activities. A secondary purpose is to create an effective medium of communication to encourage and facilitate dialogue from industry participants.

The respondents to the questionnaire are Securities Law Practitioners, Securities Law Professors and Securities Industry Participants.

The total estimated reporting burden of the questionnaire is approximately twenty-two and a half (22.5) hours semi-annually. It is estimated that it will take each respondent approximately thirty (30) minutes to complete the questionnaire. Assuming that all forty-five (45) individuals respond, the total estimated burden will be twenty-two and a half (22.5) hours semi-annually. This was calculated by multiplying the total number of respondents times how long it is estimated to take to complete the questionnaire (45 respondents × 30 minutes = 22 hours and 30 minutes). Since the information collection is intended to be sent out semi-annually, the total yearly burden will be forty-five hours (45), totaling one (1) hour per respondent annually.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Charles Boucher, Director/Chief Information Officer, Securities and Exchange Commission, C/O Shirley Martinson, 6432 General Green Way, Alexandria, Virginia 22312 or send an e-mail to: PRA_Mailbox@sec.gov.

March 1, 2010.
Florence E. Harmon,
Deputy Secretary.

[FR Doc. 2010-4741 Filed 3-5-10; 8:45 am]

BILLING CODE 8011-01-P